NATIONAL SCIENCE FOUNDATION

Proposal Review Panel for Environmental Biology; Notice of Meeting

In accordance with the Federal Advisory Committee Act (Pub. L. 92-463, as amended), the National Science Foundation (NSF) announces the following meeting:

Name and Committee Code: Proposal Review Panel for Environmental Biology—Mid-term Site Review of Luquillo LTER (#10744)—Site Visit.

Dates and Times: March 29-31, 2017; 8 a.m.-5 p.m.

Place: Luquillo LTER, University of Puerto Rico, Km 19.5, Hwy PR-186, 00745, Puerto Rico.

Type of Meeting: Closed.

Contact Person: Louis Kaplan, Division of Environmental Biology, National Science Foundation, 4201 Wilson Blvd., Arlington, VA 22230. Phone 703-292-7187.

Purpose of Meeting: Formal mid-term review of the Luquillo LTER research program.

Agenda: Provide mid-term guidance and advice to site and feedback to NSF regarding progress of this project.

Reason for Closing: The project being reviewed during this site visit will include information of a proprietary or confidential nature, including technical information; and information on personnel. These matters are exempt under 5 U.S.C. 552b(c), (4) and (6) of the Government in the Sunshine Act.

Dated: January 24, 2017.
Crystal Robinson,
Committee Management Officer.

[FR Doc. 2017-01846 Filed 1-26-17; 8:45 am]

BILLING CODE 7555-01-P